DEPARTMENT OF HOUSING AND URBAN DEVELOPMENT

[Docket No. FR-4572-D-26]

Delegation of Authority to the Special Applications Center (SAC) Director

AGENCY: Office of the Assistant Secretary for Public and Indian Housing, HUD.

ACTION: Notice of redelegation of authority.

SUMMARY: In this notice, the Assistant Secretary for Public and Indian Housing redelegates to the Director of the Special Applications Center authority to review and approve or disapprove: (1) Demolition or disposition applications pursuant to section 18 of the United States Housing Act of 1937 and 24 CFR part 970; and (2) agreements for the taking of public housing property in eminent domain proceedings, and conducting all activities related to such review, approval and disapproval with exceptions.

EFFECTIVE DATE: August 12, 2002.

FOR FURTHER INFORMATION CONTACT: Ainars Rodins, Office of Public and Indian Housing, Department of Housing and Urban Development, Special Applications Center, Chicago, IL (312) 353-6236. (This is not a toll-free number.) This number may be accessed via TTY by calling the Federal Information Relay Service at 1-800-877-8339. Comments or questions can be submitted through the Internet to Ainars_Rodins@hud.gov.

SUPPLEMENTARY INFORMATION: Under section 18 of the United States Housing Act of 1937 (42 U.S.C. 1437 et seq.) (the 1937 Act) the Secretary of Housing and Urban Development has authority to review and approve or disapprove applications from public housing agencies requesting authorization to demolish or dispose of public housing projects or portions of public housing projects. Section 18 is implemented by regulations found at 24 CFR part 970.

Under the Annual Contributions Contract and Declaration of Trust, the Secretary has an interest in public housing projects that require his or her joinder as a party in eminent domain proceedings.

The Secretary has elsewhere delegated to the Assistant Secretary for Public and Indian Housing (PIH) the authority to administer the Department's programs relating to public housing (see the delegation of authority published in the Federal Register at 48 FR 41097).

Accordingly, the Assistant Secretary for PIH redelegates that authority, as follows:

Section A: Authority Redelegated

The Assistant Secretary for PIH redelegates the following authority to the Director of the Special Applications Center (SAC), except as provided in Section B. below:

1. To review and approve or disapprove applications for the demolition or disposition of public housing projects pursuant to section 18 of the 1937 Act and the implementing regulations at 24 CFR part 970, and to conduct all activities related to such review, and approval or disapproval of such applications.

2. To review and approve or disapprove agreements for the taking of public housing property in eminent domain proceedings and conduct all activities related to such review, and approval or disapproval of such agreements.

Section B: Authority Excepted

1. The authority redelegated does not include the authority to waive regulations; and

2. The Director of the SAC may exercise the authority to disapprove an application for demolition or disposition or an agreement for the taking of public housing property in eminent domain proceedings on the grounds that the application or agreement is prohibited by or inconsistent with applicable Federal law only with the concurrence of the Assistant Secretary for PIH or his or her designee.

Section C: Authority to Further Redelegate

The authority redelegated in Section A may not be further redelegated except to an official authorized to act for the Director of the SAC in his or her absence.

Section D: Authority Revoked

The redelegation of authority from the Assistant Secretary for PIH to PIH Directors and Deputy Directors in the field, published in the Federal Register at 59 FR 51200 (October 7, 1994) is revoked in part. Specifically, the authority redelegated to PIH Directors and Deputy Directors with regard to demolition and disposition of public housing (section 18 of the 1937 Act and implementing regulations at 24 CFR part 970) is revoked (see Section C.(2) of the October 7, 1994 redelegation). The redelegation of authority to PIH Directors and Deputy Directors remains otherwise in effect.

Dated: August 12, 2002.
Michael Liu,
Assistant Secretary for Public and Indian Housing.

[FR Doc. 02-21986 Filed 8-28-02; 8:45 am]

BILLING CODE 4210-33-P